DEPARTMENT OF COMMERCE

International Trade Administration

[A-489-816]

Oil Country Tubular Goods From the Republic of Turkey: Rescission of Antidumping Duty Administrative Review; 2019-2020

AGENCY: Enforcement and Compliance, International Trade Administration, Department of Commerce.

SUMMARY: The Department of Commerce (Commerce) is rescinding the administrative review of the antidumping duty order on oil country tubular goods (OCTG) from the Republic of Turkey (Turkey) covering the period of review (POR) September 1, 2019, through August 31, 2020, based on the timely withdrawal of the request for review.

DATES: Applicable December 15, 2020.

FOR FURTHER INFORMATION CONTACT: Christopher Williams, AD/CVD Operations, Office I, Enforcement and Compliance, International Trade Administration, U.S. Department of Commerce, 1401 Constitution Avenue NW, Washington, DC 20230; telephone: (202) 482-5166.

SUPPLEMENTARY INFORMATION:

Background

On September 1, 2020, Commerce published a notice of opportunity to request an administrative review of the antidumping duty order on OCTG from Turkey for the POR September 1, 2019, through August 31, 2020.¹ On September 30, 2020, the petitioners ² timely requested an administrative review of the antidumping duty order with respect to seven exporters/producers.³ Commerce received no other requests for an administrative review of the antidumping duty order. On October 30, 2020, pursuant to section 751(a) of the Tariff Act of 1930, as amended (the Act), and 19 CFR 351.221(c)(1)(i), we published in the Federal Register a notice of initiation of an administrative review of the antidumping duty order on OCTG from Turkey with respect to the seven companies listed in the petitioners' request for review.⁴ On November 25, 2020, the petitioners timely withdrew their administrative review request for all of the following seven companies for which a review was requested: APL Apollo Tubes Ltd., BAUER Casings Makina San. ve Tic. Ltd, Binayak Hi Tech Engineering Ltd., Goktas Yassi Hadde Mamulleri San. ve Tic. A.S., ISMT Limited, Noksel Celik Boru Sanayi. A.S., and TPAO (Turkiye Petrolleri Anonim Ortakligi).⁵

¹ See Antidumping or Countervailing Duty Order, Finding, or Suspended Investigation; Opportunity to Request Administrative Review, 85 FR 54349 (September 1, 2020).

² The petitioners are the United States Steel Corporation, Maverick Tube Corporation, Tenaris Bay City, Inc., and IPSCO Tubulars Inc.

³ See Petitioners' Letter, “Oil Country Tubular Goods from Turkey: Request for Administrative Review of Antidumping Duty Order,” dated September 30, 2020.

⁴ See Initiation of Antidumping and Countervailing Duty Administrative Reviews, 85 FR 68840 (October 30, 2020) (Initiation Notice).

⁵ See Petitioners' Letter, “Oil Country Tubular Goods from Turkey: Withdrawal of Request for Administrative Review,” dated November 25, 2020.

Rescission of Administrative Review

Pursuant to 19 CFR 351.213(d)(1), Commerce will rescind an administrative review, in whole or in part, if a party that requested a review withdraws the request within 90 days of the date of publication of notice of initiation of the requested review. The petitioners timely withdrew their request for review within 90 days of the publication date of the Initiation Notice. No other parties requested an administrative review of the antidumping duty order. Therefore, in accordance with 19 CFR 351.213(d)(1), we are rescinding the administrative review of the antidumping order on OCTG from Turkey for the period September 1, 2019, through August 31, 2020, in its entirety.

Assessment

Commerce will instruct CBP to assess antidumping duties on all appropriate entries of OCTG from Turkey during the POR at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is issued and published in accordance with sections 751(a)(1) and 777(i)(1) of the Act, and 19 CFR 351.213(d)(4).

Dated: December 10, 2020.
James Maeder,
Deputy Assistant Secretary for Antidumping and Countervailing Duty Operations.

[FR Doc. 2020-27557 Filed 12-14-20; 8:45 am]

BILLING CODE 3510-DS-P